DEPARTMENT OF ENERGY

Federal Energy Regulatory Commission

[Docket No. EC02-73-000, et al.]

Caledonia Generating, LLC, et al.; Electric Rate and Corporate Regulation Filings

June 13, 2002.

The following filings have been made with the Commission. The filings are listed in ascending order within each docket classification.

1. Caledonia Generating, LLC, Cogentrix Energy Power Marketing, Inc., Cogentrix Lawrence County, LLC, Green Country Energy, LLC, Jackson County Power, LLC, Quachita Power, LLC, Rathdrum Power, LLC, Southaven Power, LLC, & Aquila Merchant Services, Inc.

[Docket No. EC02-73-000]

Take notice that on June 5, 2002, Caledonia Generating, LLC, Cogentrix Energy Power Marketing, Inc., Cogentrix Lawrence County, LLC, Green Country Energy, LLC, Jackson County Energy, LLC, Quachita Power, LLC, Rathdrum Power, LLC, Southaven Power, LLC (Operating Companies) and Aquila Merchant Services, Inc. (AMS) filed with the Federal Energy Regulatory Commission (Commission) a joint application pursuant to section 203 of the Federal Power Act for authorization of a disposition of jurisdictional facilities as a result of the merger of Cogentrix Energy, Inc. (Cogentrix), the parent of Operating Companies, and AMS.

Operating Companies are engaged exclusively in the business of owning generating facilities and selling capacity at wholesale. Joint Applicants request privileged treatment by the Commission of the Merger Agreement between Cogentrix and AMS that governs the proposed merger.

Comment Date: July 5, 2002.

2. California Independent System Operator Corporation

[Docket No. ER02-2040-000]

Take notice that on June 6, 2002, the California Independent System Operator Corporation, (ISO), tendered for filing a Meter Service Agreement for ISO Metered Entities between the ISO and Berry Petroleum Company (Placerita Unit 2) (Berry Petroleum) for acceptance by the Commission.

The ISO states that this filing has been served on Berry Petroleum and the California Public Utilities Commission. The ISO is requesting waiver of the 60-day notice requirement to allow the Meter Service Agreement for ISO Metered Entities to be made effective May 30, 2002.

Comment Date: June 27, 2002.

3. Florida Power & Light Company

[Docket No. ER02-2041-00]

Take notice that on June 6, 2002, Florida Power & Light Company ( PL filed a notice of termination of the unexecuted Interconnection & Operation Agreement between FPL and Enron Broward Development Company, LLC. FPL requests that the termination be made effective on the date of a Commission order accepting the notice of termination.

Comment Date: June 24, 2002.

4. UGI Utilities, Inc.

[Docket No. ER02-2042-000]

Take notice that on June 6, 2002, UGI, Inc. (UGI) tendered for filing a rate schedule under which it proposes to sell capacity and energy to affiliates and non-affiliates at market-based rates. UGI requests an effective date of August 1, 2002.

Comment Date: June 27, 2002.

5. California Independent System Operator Corporation

[Docket No. ER02-2043-000]

Take notice that the California Independent System Operator Corporation (ISO), on June 6, 2002, tendered for filing an unexecuted Participating Generator Agreement between the ISO and Valero Refining Company—California (Valero) for acceptance by the Commission.

The ISO states that this filing has been served on Valero and the California Public Utilities Commission. The ISO is requesting waiver of the 60-day notice requirement to allow the Participating Generator Agreement to be made effective May 24, 2002.

Comment Date: June 27, 2002.

6. California Independent System Operator Corporation

[Docket No. ER02-2044-000]

Take notice that on June 6, 2002, the California Independent System Operator Corporation (ISO), tendered for filing a Participating Generator Agreement between the ISO and Berry Petroleum Company (Placerita Unit 2) (Berry Petroleum) for acceptance by the Commission.

The ISO states that this filing has been served on Berry Petroleum and the California Public Utilities Commission. The ISO is requesting waiver of the 60-day notice requirement to allow the Participating Generator Agreement to be made effective May 30, 2002.

Comment Date: June 27, 2002.

7. Commonwealth Edison Company

[Docket No. ER02-2045-000]

Take notice that on June 6, 2002, Commonwealth Edison Company (ComEd) submitted for filing a Service Agreement for Firm Point-to Point Transmission Service (Agreement) under ComEd's FERC Electric Tariff, Second Revised Volume No. 5.

ComEd seeks an effective date of May 8, 2002 for the Agreement and, accordingly, seeks waiver of the Commission's notice requirements. ComEd states that a copy of this filing has been served on MPEX and the Illinois Commerce Commission.

Comment Date: June 27, 2002.

8. California Independent System Operator Corporation

[Docket No. ER02-2046-000]

Take notice that the California Independent System Operator Corporation (ISO), on June 6, 2002, tendered for filing an unexecuted Meter Service Agreement for ISO Metered Entities between the ISO and Valero Refining Company—California (Valero) for acceptance by the Commission.

The ISO states that this filing has been served on Valero and the California Public Utilities Commission. The ISO is requesting waiver of the 60-day notice requirement to allow the Metered Service Agreement for ISO Metered Entities to be made effective May 24, 2002.

Comment Date: June 27, 2002.

9. Virginia Electric and Power Company

[Docket No. ER02-2047-000]

Take notice that on June 7, 2002, Virginia Electric and Power Company (Dominion Virginia Power) tendered for filing an executed Generator Interconnection and Operating Agreement (Interconnection Agreement) with Old Dominion Electric Cooperative (ODEC). The Interconnection Agreement sets forth the terms and conditions governing the interconnection between ODEC's generating facility and Dominion Virginia Power's transmission system.

Dominion Virginia Power requests that the Commission allow the Interconnection Agreement to become effective sixty days after filing or August 6, 2002. Copies of the filing were served upon ODEC and the Virginia State Corporation Commission.

Comment Date: June 28, 2002.

10. Virginia Electric and Power Company

[Docket No. ER02-2048-000]

Take notice that on June 7, 2002, Virginia Electric and Power Company (Dominion Virginia Power) tendered for filing an executed Generator Interconnection and Operating Agreement (Interconnection Agreement) with Old Dominion Electric Cooperative (ODEC). The Interconnection Agreement sets forth the terms and conditions governing the interconnection between ODEC's generating facility and Dominion Virginia Power's transmission system.

Dominion Virginia Power requests that the Commission allow the Interconnection Agreement to become effective sixty days after filing or August 6, 2002. Copies of the filing were served upon ODEC and the Virginia State Corporation Commission.

Comment Date: June 28, 2002.

11. Wisconsin Electric Power Company

[Docket No. ER02-2049-000]

Take notice that on June 7, 2002, Wisconsin Electric Power Company (Wisconsin Electric) tendered for filing a fully executed Master Power Purchase and Sale Agreement (Master Agreement), designated as FERC Electric Rate Schedule No. 110, between Wisconsin Electric and Rainy River Energy Corporation (Rainy River). The Master Agreement sets forth the general terms and conditions pursuant to which Wisconsin Electric and Rainy River will enter into transactions for the purchase and sale of electric capacity, energy, or other product related thereto. Wisconsin Electric also tendered for filing Service Agreement No. 1 under the rate schedule for the optional sale by Wisconsin Electric. Wisconsin Electric requests that this Master Agreement and Service Agreement become effective May 15, 2002.

Comment Date: June 28, 2002.

12. Hartford Power Sales, L.L.C.

[Docket No. ER02-2050-000]

Take notice that on June 7, 2002, Hartford Power Sales, L.L.C., tendered for filing a Notice of Cancellation of its authorization to engage in wholesale electric energy transactions at market-based rates, filed on January 6, 1995.

Comment Date: June 28, 2002.

13. Xcel Energy Services, Inc.

[Docket No. ER02-2051-000]

Take notice that on June 7, 2002, Xcel Energy Services, Inc. (XES), on behalf of Public Service Company of Colorado (Public Service), submitted for filing a Form of Service Agreement with H.Q. Energy Services (U.S.) Inc. (H.Q. Energy Services), which is in accordance with Public Service's Rate Schedule for Market-Based Power Sales (Public Service FERC Electric Tariff, First Revised Volume No. 6).

XES requests that this agreement become effective on May 23, 2002.

Comment Date: June 28, 2002.

14. Xcel Energy Services, Inc.

[Docket No. ER02-2052-000]

Take notice that on June 7, 2002 Xcel Energy Services, Inc. (XES), on behalf of Southwestern Public Service Company (SPS), submitted for filing a Transmission Agent Agreement between SPS and Central Valley Electric Cooperative, Inc. (Central Valley).

XES requests that this agreement become effective on January 14, 2002.

Comment Date: June 28, 2002.

15. Western Resources, Inc.

[Docket No. ER02-2053-000]

Take notice that on June 7, 2002, Western Resources, Inc. (WR) (d.b.a. Westar Energy) tendered for filing a Service Agreement between WR and the Alabama Electric Cooperative, Inc. (AEC). WR states that the purpose of this agreement is to permit SCEG to take service under WR's Market Based Power Sales Tariff on file with the Commission.

This agreement is proposed to be effective June 1st, 2002. Copies of the filing were served upon AEC and the Kansas Corporation Commission.

Comment Date: June 28, 2002.

16. Tampa Electric Company

[Docket No. ER02-2054-000]

Take notice that on June 7, 2002, Tampa Electric Company (Tampa Electric) tendered for filing an unexecuted service agreement with Entergy-Koch Trading, LP (Entergy-Koch) for non-firm point-to-point transmission service under Tampa Electric's open access transmission tariff. Tampa Electric proposes that the service agreement be made effective on May 16, 2002, and cancelled as of June 1, 2002.

Copies of the filing have been served on Entergy-Koch and the Florida Public Service Commission.

Comment Date: June 28, 2002.

17. The Dayton Power and Light Company

[Docket No. ER02-2055-000]

Take notice that on June 7, 2002 The Dayton Power and Light Company (Dayton) submitted a service agreement establishing CMS Marketing Services and Trading (CMS) as a customer under the terms of Dayton's FERC Electric Tariff, Original Volume No. 10.

Dayton requests an effective date of one day subsequent to this filing for the service agreements. Accordingly, Dayton requests waiver of the Commission's notice requirements. Copies of this filing were served upon CMS and the Public Utilities Commission of Ohio.

Comment Date: June 28, 2002.

18. Southaven Power, LLC

[Docket No. ER02-2056-000]

Take notice that on June 10, 2002, Southaven Power, LLC (Southaven) tendered for filing amendments to its existing authorization to sell capacity and energy at market-based rates to reflect its pending affiliation with Aquila, Inc.

Comment Date: July 1, 2002.

19. Green Country Energy, LLC

[Docket No. ER02-2057-000]

Take notice that on June 10, 2002, Green Country Energy, LLC (Green Country), tendered for filing amendments to its existing authorization to sell capacity and energy at market-based rates to reflect its pending affiliation with Aquila, Inc.

Comment Date: July 1, 2002.

20. Cogentrix Energy Power Marketing, Inc.

[Docket No. ER02-2058-000]

Take notice that on June 10, 2002, Cogentrix Energy Power Marketing, Inc. (CEPM) tendered for filing amendments to its existing authorization to sell capacity and energy at market-based rates to reflect its pending affiliation with Aquila, Inc.

Comment Date: July 1, 2002.

21. Rathdrum Power, LLC

[Docket No. ER02-2059-000]

Take notice that on June 10, 2002, Rathdrum Power, LLC (Rathdrum) tendered for filing amendments to its existing authorization to sell capacity and energy at market-based rates to reflect its pending affiliation with Aquila, Inc.

Comment Date: July 1, 2002.

22. Jackson County Power, LLC

[Docket No. ER02-2060-000]

Take notice that on June 10, 2002, Jackson County Power, LLC (Jackson County) tendered for filing amendments to its existing authorization to sell capacity and energy at market-based rates to reflect its pending affiliation with Aquila, Inc.

Comment Date: July 1, 2002.

23. Caledonia Generating, LLC

[Docket No. ER02-2061-000]

Take notice that on June 10, 2002, Caledonia Generating, LLC (Caledonia) tendered for filing amendments to its existing authorization to sell capacity and energy at market-based rates to reflect its pending affiliation with Aquila, Inc.

Comment Date: July 1, 2002.

24. Quachita Power, LLC

[Docket No. ER02-2062-000]

Take notice that on June 10, 2002, Quachita Power, LLC tendered for filing with the Federal Energy Regulatory Commission (Commission) amendments to its existing authorization to sell capacity and energy at market-based rates to reflect its pending affiliation with Aquila, Inc.

Comment Date: July 1, 2002.

25. Cogentrix Lawrence County, LLC

[Docket No. ER02-2063-000]

Take notice that on June 10, 2002, Cogentrix Lawrence County, LLC (Cogentrix Lawrence) tendered for filing amendments to its existing authorization to sell capacity and energy at market-based rates to reflect its pending affiliation with Aquila, Inc.

Comment Date: July 1, 2002.

26. Choctaw Generation Limited Partnership

[Docket No. ER02-2064-000]

Take notice that on June 10, 2002, Choctaw Generation Limited Partnership (CGLP) tendered for filing with the Federal Energy Regulatory Commission (Commission), a service agreement for sales of energy and capacity to the Tennessee Valley Authority.

Comment Date: July 1, 2002.

27. Baja California Power, Inc.

[Docket No. ER02-2065-000]

Take notice that on June 10, 2002, Baja California Power, Inc. (BCP) tendered for filing its Interconnection Services Agreement (the Agreement) dated as of April 22, 2002, between BCP, Energia Azteca X, S. de. R.L. de C.V. (Energia Azteca) and Energia de Baja California, S. de R.L. de C.V. (Energia de Baja). The Agreement allows for the interconnection of new generating plants owned by Energia Azteca and Energia de Baja and located near Mexicali, Mexico.

BCP states that copies of the filing have been served on Energia Azteca, Energia de Baja and the California Public Utilities Commission.

Comment Date: July 1, 2002.

28. Southwest Power Pool, Inc.

[Docket No. ER02-2066-000]

Take notice that on June 10, 2002, Southwest Power Pool, Inc. (SPP) submitted for filing executed service agreements for Firm Point-to-Point Transmission Service, Non-Firm Point-to-Point Transmission Service, and Loss Compensation Service with Select Energy, Inc. (Transmission Customer).

SPP seeks an effective date of June 6, 2002 for these service agreements.

The Transmission Customer was served with a copy of this filing.

Comment Date: July 1, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-15398 Filed 6-18-02; 8:45 am]

BILLING CODE 6717-01-P